FEDERAL RESERVE SYSTEM

Change in Bank Control Notices; Formations of, Acquisitions by, and Mergers of Bank Holding Companies; Correction

This notice corrects a notice (FR Doc. 2015-19667) published on pages 48103 and 48104 of the issue for Tuesday, August 11, 2015.

Under the Federal Reserve Bank of Minneapolis heading, the entry for The Fishback Annuity Trust I, the Fishback Annuity Trust II, the Fishback Annuity Trust VI, Patricia S. Fishback, individually and as voting trustee of the trusts, all of Brookings, South Dakota, William Cornick Stephen Fishback, Francesca Margaret Fishback, both of San Francisco, California; Abby Margaret Rivlin, and Toby Sebastian Rivlin, both of Madison, Wisconsin; to retroactively join the Fishback Family Control group, is revised to read as follows:

A. Federal Reserve Bank of Minneapolis (Jacquelyn K. Brunmeier, Assistant Vice President) 90 Hennepin Avenue, Minneapolis, Minnesota 55480-0291:

1. Fishback Annuity Trust I, the Fishback Annuity Trust II, the Fishback Annuity Trust VI, Patricia S. Fishback, individually and as voting trustee of the trusts, all of Brookings, South Dakota, William Fishback, San Francisco, California, Francesca Fishback, San Francisco, California, Abby Rivlin, Madison, Wisconsin, Toby Rivlin, Madison, Wisconsin, and Fishback Grandchildren Trust I, Brookings, South Dakota, First Bank & Trust, Brookings, South Dakota, trustee, to retroactively join the Fishback Family Control group which controls 25 percent or more of the shares of Fishback Financial Corporation, Brookings, South Dakota and indirectly control First Bank & Trust, Brookings, South Dakota, First Bank & Trust, N.A., Pipestone, Minnesota, First Bank & Trust, Sioux Falls, South Dakota, and First Bank & Trust of Milbank, Milbank, South Dakota.

Comments on this application must be received by August 25, 2015.

Board of Governors of the Federal Reserve System, August 12, 2015.
Margaret McCloskey Shanks,
Deputy Secretary of the Board.

[FR Doc. 2015-20180 Filed 8-14-15; 8:45 am]

BILLING CODE 6210-01-P